DEPARTMENT OF TRANSPORTATION

National Highway Traffic Safety Administration

[Docket No. NHTSA-2024-0069]

Agency Information Collection Activities; Notice and Request for Comment; Automated Driving Systems 2.0: A Vision for Safety

AGENCY: National Highway Traffic Safety Administration (NHTSA), Department of Transportation (DOT).

ACTION: Notice and request for public comments on an extension of a currently approved information collection.

SUMMARY: NHTSA invites public comments about our intention to request approval from the Office of Management and Budget (OMB) for an extension of a currently approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB extension approval titled “Automated Driving Systems 2.0: A Vision for Safety” and is identified by OMB Control Number 2127-0723, currently approved through February 28, 2025. The burden hour calculations have been adjusted to reflect a reduction in annual respondents resulting in a reduction in burden hours from 12,000 annually to 2,400 annually.

DATES: Comments must be submitted on or before December 23, 2024.

ADDRESSES: You may submit comments identified by the Docket No. NHTSA-2024-0069 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Debbie Sweet, Office of Vehicle Safety Research (NSR-010), (202) 366-7179, National Highway Traffic Safety Administration, W46-417, U.S. Department of Transportation, 1200 New Jersey Avenue SE, Washington, DC 20590. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Automated Driving Systems 2.0: A Vision for Safety.

OMB Control Number: 2127-0723.

Form Number(s): None.

Type of Request: Extension of a currently approved information collection.

Type of Review Requested: Regular.

Requested Expiration Date of Approval: 3 years from date of approval.

Summary of the Collection of Information:

In September 2017, NHTSA published a policy document titled, Automated Driving Systems 2.0: A Vision for Safety (ADS 2.0). Recognizing the potential that Automated Driving Systems (ADSs) have to enhance safety and mobility, this policy document set out an approach to enable the safe deployment of ADS-equipped vehicles. ADS 2.0 contains 12 priority safety design elements, each of which contains safety goals and approaches that could be used to achieve those safety goals. Entities engaged in ADS testing and deployment may demonstrate how they address—via industry best practices, their own best practices, or other appropriate methods—the safety elements by publishing a Voluntary Safety Self-Assessment (VSSA). The VSSA is the medium of collection of information for ADS 2.0. NHTSA provides the VSSA Index on the agency's website as a pointer system for entities' VSSAs.

Description of the Need for the Information and Proposed Use of the Information:

The VSSA is intended to demonstrate to the public (particularly States and consumers) that entities are: (1) considering the safety aspects of ADSs; (2) communicating and collaborating with DOT; (3) encouraging the self-establishment of industry safety norms for ADSs; and (4) building public trust, acceptance, and confidence through transparent testing and deployment of ADSs. It also allows companies an opportunity to showcase their approach to safety, without needing to reveal proprietary intellectual property.

Entities collecting information and disclosing that information via a Voluntary Safety Self-Assessment have been given the flexibility to disclose the information in a format deemed appropriate for that particular entity. Each entity has selected the layout, presentation, and verbiage structure that best fits its needs and goals.

Members of the public can retrieve the VSSA in order to understand the technology, learn about how the testing and safety elements are incorporated in the design and function of a system or vehicle, and become aware of the testing and deployments in locations around the country.

State stakeholders have expressed they would use the information in the VSSA to assess the safety of ADSs on their roadways. Those States looking to require application and permission to test and deploy ADSs review the VSSA prior to issuing the permit. The States also use information in the VSSA to communicate with law enforcement and first responders as well as to educate the public.

Other consumer-based stakeholders access the information in the VSSA to gather information to identify risk, inform decisions, and educate, among other uses.

Affected Public: Entities involved in the testing and deployment of ADS.

Estimated Number of Respondents: 4.

Frequency: Once.

Estimated Total Annual Burden Hours: 2,400 hours.

Estimating Respondents for this Information Collection: This extension of a currently approved collection includes changes in the annual respondents and thus a decrease in the annual burden hours to the public. The changes are based on observations of the current and past information collections.

NHTSA has combined multiple public lists of ADS entities to determine the potential universe of potential entities that may (past or future) develop a VSSA. Accessed on October 3, 2024, NHTSA combined entities that were listed on the current VSSA Index, the California Department of Motor Vehicle Autonomous Vehicles list of permit holders (testing with a driver, driverless testing, and deployment), and the entities that have submitted ADS incident reports through the Standing General Order. Staff then reviewed the list to determine which entities were no longer operational in the United States. This provided a universe as well as a grounding in the size of the industry, which entities have developed a VSSA in years past, and whether newer entrants are present in the universe such that they may develop a VSSA. The result of these steps was 59 ADS entities.

Of the 59 entities, 27 have developed and made public a VSSA since the collections began according to the VSSA Index. NHTSA is not aware that any of the 27 have updated the full VSSA during that time period. Two of those entities have released an appendix with separate information not included in ADS 2.0. NHTSA assumes these entities will not update their VSSA in the next three years. Table 1 provides a list of VSSA publication date since 2017. The average over the lifetime of ADS 2.0 is three VSSAs per year. Perhaps more reflective of the recent industry, the average over the current collection (three years) is 4 VSSAs per year.

Table 1—VSSA Dissemination to Date
Release | Number
Webpage Only (no structured VSSA) | 2
Inactive pointer location | 4
2018 | 1
2019 | 1
2020 | 3
2021 | 4
2022 | 2
2023 | 6
2024 | 4
Seven-year average | 3
Three-year Average (period of current ICR) | 4

Taking into account the universe established (59 entities) and those that have disseminated a VSSA or suggested a web page through the VSSA Index (27), NHTSA believes there is a potential for another 32 entities to publish a VSSA; however, the maturity of the entity itself, the development of the ADS, and the partnerships established within the industry, NHTSA does not assume all 32 will develop a VSSA over the coming three years. This is bolstered by the fact that it has taken seven years for dissemination of 27 VSSAs.

NHTSA will use the most recent three-year average of four VSSAs per year for an estimation of VSSA dissemination or publication for the duration of this information collection extension. Therefore, the number of respondents annually is four and the frequency is once per year.

Estimating Burden for Each Respondent: Components of the Voluntary Guidance in ADS 2.0 and public disclosure of the VSSA have not changed since release in 2017. Therefore, these estimates of time to summarize how an entity is addressing the safety elements remains the same as the current information collection. NHTSA has not received comments that these estimates are erroneous.

Development of a VSSA is expected to involve burden for format, content, and summary, varying by safety element. NHTSA estimates that each entity will spend approximately 600 hours to develop and disseminate a VSSA. Table 2 provides a breakdown of burden hours by safety element.

Table 2—Burden Hours Estimates for VSSA, per Safety Element
Safety element in voluntary guidance | Burden hours for VSSA development
A. System Safety | 30
B. Operational Design Domain | 25
C. Object and Event Detection and Response | 45
D. Fallback | 90
E. Validation Methods | 90
F. Human Machine Interface | 25
G. Vehicle Cybersecurity | 25
H. Crashworthiness | 25
I. Post-Crash ADS Behavior | 25
J. Data Recording | 90
K. Consumer Education and Training | 45
L. Federal, State, and Local Laws | 85
Total Burden Hours Per ADS | 600

Table 3—Calculation of Annual Burden Hours
Estimated Annual Respondents | 4
Estimated Burden Hours for Voluntary Assessment Dissemination | 600
Total Estimated Burden Hours for Industry per Year | 2,400

The change reflected in this extension is a reduction of 9,600 burden hours annually.

Estimated Total Annual Burden Cost: $282,384.

NHTSA estimates the hourly cost associated with preparing VSSAs to be $117.66 ¹ per hour using the Bureau of Labor Statistics' mean hourly wage estimate for architectural and engineering managers in the motor vehicle manufacturing industry (Standard Occupational Classification # 11-9041). Therefore, the estimated annual burden to each respondent is $70,596 (600 hours × $117.66). Therefore, the annual estimated labor costs to all respondents to this collection is $282,384. This reflects a decrease of $885,936 for labor costs annually.

¹ The hourly wage is estimated to be $82.83 per hour. National Industry-Specific Occupational Employment and Wage Estimates NAICS 336100-Motor Vehicle Manufacturing, May 2023, https://www.bls.gov/oes/current/naics4_336100.htm, last accessed October 9, 2024. The Bureau of Labor Statistics estimates that wages represent 70.2 percent of total compensation to private workers, on average. Therefore, NHTSA estimates the total hourly compensation cost to be $117.66.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Cem Hatipoglu,
Associate Administrator, Vehicle Safety Research.

[FR Doc. 2024-24432 Filed 10-22-24; 8:45 am]

BILLING CODE 4910-59-P